DEPARTMENT OF TRANSPORTATION

Federal Transit Administration

Environmental Impact Statement on Transit Improvements in the Metro South Study Area of Metropolitan St. Louis, MO

AGENCY: Federal Transit Administration (FTA), Department of Transportation (DOT).

ACTION: Notice of intent to prepare an Environmental Impact Statement (EIS).

SUMMARY: The Federal Transit Administration (FTA), the East-West Gateway Coordinating Council, the Bi-State Development Agency doing business as Metro, and the Missouri Department of Transportation (DOT) intend to prepare an EIS in accordance with the National Environmental Policy Act (NEPA) and its implementing regulations for proposed transportation improvements in the Metro South Study Area of metropolitan St. Louis County, Missouri. The project co-sponsors include the East-West Gateway Coordinating Council (EWGCC) which is the metropolitan planning organization (MPO) responsible for transportation planning in the St. Louis metropolitan area, Metro which is the transit agency that operates the MetroLink light rail system and the bus system in the St. Louis metropolitan area, and the Missouri DOT.

This notice is being published to notify interested agencies and the general public about the proposed action and to invite participation in the study. Scoping will be accomplished through correspondence and meetings with interested persons, organizations, and federal, state, and local agencies. A public scoping meeting and an interagency scoping meeting are currently planned.

The Metro South Study Area is bounded by the River Des Peres on the north, the Mississippi River on the east, the Meramec River on the south, and various streets including Gravois, Sappington, Watson, and Edgar on the west. Within this study area, transit improvements alternatives including light-rail transit alternatives, a transportation systems management (TSM) alternative, an enhanced bus system alternative, a no-action alternative and any additional reasonable alternatives emerging from the scoping process will be evaluated.

DATES: The public scoping meeting is scheduled for July 23, 2003 from 4 to 7 p.m. at the address given under ADDRESSES. The interagency scoping meeting is scheduled for July 25, 2003. Written comments on the scope of the study must be received at the EWGCC by August 8, 2003. See ADDRESSES for mailing information.

ADDRESSES: Scoping Meetings: The public scoping meeting on July 23, 2003 will be held in the gymnasium of Cor Jesu Academy, 10230 Gravois Road, St. Louis, Missouri 63123. The meeting will take place from 4 to 7 p.m. Oral and written comments on the scope of the study may be given at the meeting. The meeting site is wheelchair-accessible. Any person who requires language interpretation or special communication accommodations is asked to contact the project's public-participation coordinator, Laurna Godwin of Vector Communications at (314) 621-5566 prior to the meeting. Federal, state, and local agencies will be notified individually about the location of the interagency scoping meeting.

Written Comments: Written comments on the scope of the study may be sent to Mr. Bob Innis, Transportation Corridor Improvement Group, East-West Gateway Coordinating Council, 10 Stadium Plaza, St. Louis, MO 63102; or by e-mail to bob.innis@ewgateway.org.

FOR FURTHER INFORMATION CONTACT: Ms. Joan Roeseler, Director of Planning and Program Development, FTA Region 7, 901 Locust Street, Kansas City, Missouri 64106; Telephone: (816) 329-3936.

SUPPLEMENTARY INFORMATION:

I. Scoping

Scoping information material will be available at the meetings and may also be obtained by contacting Mr. Bob Innis at his address in ADDRESSES above or by telephone at (314) 982-1400, Extension 1767. Scoping information will also be available on the Internet at http://www.metrosouthstudy.org FTA, EWGCC, Metro, and the Missouri DOT invite all interested individuals and organizations, and Federal, State, regional, and local agencies to participate in articulating the purpose and need for the proposed transit improvements, defining the transit alternatives to be evaluated, and identifying social, economic, or environmental issues related to the alternatives. During the scoping process, comments should focus on specific social, economic, or environmental issues to be evaluated and on suggesting alternatives that may be less costly or have fewer environmental impacts while achieving similar transportation objectives.

II. Planning History and Process

A multimodal major investment study entitled the Cross-County Corridor

Major Transportation Investment Analysis (MTIA) was carried out in 1995-1997. This study examined transportation problems and identified potential solutions at a conceptual level for a large portion of St. Louis County, including the Metro South Study Area, that is the subject of the planned EIS. At the conclusion of the MTIA, the EWGCC selected a MetroLink light rail transit (LRT) extension as the locally preferred alternative (LPA) in the Metro South Study Area. That LRT extension was planned to extend along a corridor from Lansdowne Avenue south along the Burlington-Northern & Santa Fe Railroad right-of-way past Lindbergh Boulevard, across I-55 to the South County Shopping Center near I-255/270, and then across I-255 and south along the I-55 right-of-way terminating south-east of the I-55 and Butler Hill Road interchange.

However, conditions in the Metro South Study Area have changed since the MTIA was completed in early 1997. For example, a number of large new commercial developments have recently opened or are currently under construction. Therefore, at the outset of the NEPA process, the state and local sponsoring agencies will conduct a Planning Alternatives Analysis to re-establish the project purpose and need consistent with the land use and transportation goals and objectives in the Legacy 2025: Long Range Plan initiative, and to re-examine the alternative transit modes and general alignments that would serve the transportation purpose and need in the Metro South Study Area.

III. Alternatives

The alternatives to be considered currently consist of the No-Action Alternative, Light Rail Transit (LRT) Alternatives, a TSM Alternative, and an Enhanced Bus System Alternative. Any additional reasonable alternatives suggested during scoping that reduce costs or impacts while still serving the transportation purpose and need will also be considered. The LRT Alternatives consist of the LPA from the MTIA described above, and alignment variations designed to serve new developments or to reduce impacts. The No-Action Alternative is the continuation of existing bus service policies in the study area. Under the No-Action Alternative, increases in service would track with increases in demand due to population or employment growth in the area, in accordance with current service policies. The TSM Alternative consists of low-cost mobility improvements that attempt to serve the project purpose and need without building a transit guideway. The Enhanced Bus System Alternative provides additional bus improvements exceeding those of the TSM in cost and possibly including segments of busway or dedicated lanes.

IV. Probable Effects and Potential Impacts for Analysis

At the present time, none of the usual impact categories associated with transit projects can be ruled out. Therefore the study will evaluate all social, economic, and environmental impacts of the alternatives, including land use, zoning, and economic development; cumulative land use impact, land acquisition, displacements, and relocation of existing uses; historic, archaeological, and cultural resources; parklands and recreation areas; neighborhoods and communities; environmental justice; air quality; noise and vibration; contaminated sites; ecosystems; water resources; construction impacts; safety and security; utilities; finance; and transportation impacts. The impacts will be evaluated both for the construction period and for the long-term period of operation of each alternative. Measures to mitigate adverse impacts will be identified.

V. FTA Procedures

Following the scoping process, the alternatives will be evaluated in a Planning Alternatives Analysis that results in the identification of a locally preferred alternative (LPA) by EWGCC. FTA and the project sponsors will then decide which of the alternatives may be eliminated from further review on the basis of the public and agency comments on the Planning Alternatives Analysis and which alternatives must be carried forward for detailed review in the EIS. The alternatives reviewed in the EIS will include, at a minimum, the No-Action Alternative and the LPA. Scoping activities are being initiated at the outset of the Planning Alternatives Analysis to maximize the opportunity for public involvement in the consideration of transit alternatives and reaching decisions about the transportation investments that will be advanced into the EIS for detailed evaluation.

In accordance with FTA policy, all Federal laws, regulations and executive orders affecting project development, including but not limited to the regulations of the Council on Environmental Quality and FTA implementing NEPA (40 CFR parts 1500-1508 and 23 CFR part 771), the conformity requirements of the Clean Air Act, section 404 of the Clean Water Act, Executive Orders 11988, 11990 and 12898 regarding floodplains, wetlands, and environmental justice, respectively, the National Historic Preservation Act, the Endangered Species Act, and section 4(f) of the Department of Transportation Act, will be addressed to the maximum extent practicable during the NEPA process.

Issued on: June 19, 2003.
Mokhtee Ahmad,
Regional Administrator, Federal Transit Administration, Region VII.

[FR Doc. 03-16092 Filed 6-24-03; 8:45 am]

BILLING CODE 4910-57-P